DEPARTMENT OF COMMERCE

National Oceanic and Atmospheric Administration

15 CFR Part 922

[Docket No. 201118-0306]

Reopening of Public Comment Period for the Regulatory Impact Review on the Proposed Expansion of Flower Garden Banks National Marine Sanctuary

AGENCY: Office of National Marine Sanctuaries (ONMS), National Ocean Service (NOS), National Oceanic and Atmospheric Administration (NOAA), Department of Commerce (DOC).

ACTION: Proposed rule; reopening of public comment period.

SUMMARY: The National Oceanic and Atmospheric Administration (NOAA) Office of National Marine Sanctuaries is providing the public with an opportunity to comment on NOAA's Regulatory Impact Review (RIR), a supporting document to the Notice of Proposed Rulemaking (NPRM) for the expansion of the Flower Garden Banks National Marine Sanctuary (FGBNMS). While NOAA summarized the RIR in the proposed rule for this action, due to an oversight, the RIR was not included as a supporting document when the NPRM was published. The comment period for the NPRM that was published on May 1, 2020 closed on July 3, 2020. With this notice, NOAA will only accept comments on the RIR, and any other comments on the proposed expansion will not be considered.

DATES: Send comments on or before December 8, 2020.

ADDRESSES: You may submit comments on this document, identified by NOAA-NOS-2019-0033, by:

• Electronic Submission: Submit all electronic public comments via the Federal e-Rulemaking Portal. Go to http://www.regulations.gov/#!docketDetail;D=NOAA-NOS-2019-0033, click the “Comment Now!” icon, complete the required fields, and enter or attach your comments.

Instructions: Comments sent by any other method, to any other address or individual, or received after the end of the comment period, may not be considered by NOAA. Comments received electronically, including all attachments, must not exceed a 25-megabyte file size. Attachments to electronic comments will be accepted in Microsoft Word or Excel or Adobe PDF file formats only. All comments received are part of the public record and will generally be posted for public viewing on www.regulations.gov without change. All personal identifying information (e.g., name, address), confidential business information, or otherwise sensitive information submitted voluntarily by the sender will be publicly accessible.

FOR FURTHER INFORMATION CONTACT: George P. Schmahl, Superintendent, Flower Garden Banks National Marine Sanctuary, 4700 Avenue U, Building 216, Galveston, Texas, at 409-356-0383, or fgbexpansion@noaa.gov.

SUPPLEMENTARY INFORMATION:

Background

On May 1, 2020, NOAA published a notice of proposed rulemaking to expand Flower Garden Banks National Marine Sanctuary (85 FR 25359). The purpose of the proposed action is to expand the sanctuary to include portions of 14 additional reefs and banks in the northwestern Gulf of Mexico, representing a 104 square mile increase in area. The existing FGBNMS regulations would be applied to the expanded locations. The proposed rule allowed for a 60-day public comment period, which ended on July 3, 2020.

On November 13, 2020, NOAA discovered that, due to an oversight, the Regulatory Impact Review (RIR) for the proposed rule was not posted for public comment with the rule. The RIR was subsequently posted on regulations.gov on November 16, 2020. The RIR, which was prepared by BOEM in consultation with NOAA in accordance with Executive Order 13795—Implementing an America First Offshore Energy Strategy, analyzed the impact of the proposed sanctuary expansion on offshore energy resources in the northwestern Gulf of Mexico. The RIR clarifies the extent of oil and gas development potential within the proposed sanctuary boundaries and supports the assessment that NOAA's proposed action would not have a significant negative economic impact on Outer Continental Shelf oil and gas development in the Gulf of Mexico.

To allow the public the opportunity to meaningfully comment on the RIR, NOAA is reopening the comment period for 15 days. Any new comments should be limited to the RIR's content, and any new comments not related to the RIR will not be considered.

John Armor
Director, Office of National Marine Sanctuaries, National Ocean Service, National Oceanic and Atmospheric Administration.

[FR Doc. 2020-25838 Filed 11-20-20; 8:45 am]

BILLING CODE 3510-NK-P